ENVIRONMENTAL PROTECTION AGENCY

[ER-FRL-9043-3]

Environmental Impact Statements; Notice of Availability

Responsible Agency: Office of Federal Activities, General Information 202-564-5632 or https://www.epa.gov/nepa/.

Weekly receipt of Environmental Impact Statements

Filed 01/28/2019 Through 02/01/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180315, Final, USFWS, NE, Issuance of an Incidental Take Permit and Implementation of a Habitat Conservation Plan for the R-Project Transmission Line, Review Period Ends: 03/11/2019, Contact: Drue DeBerry 303-236-4774

EIS No. 20190001, Final, DOE, LA, ADOPTION—Driftwood LNG Project, Contact: Brian Lavoie 202-586-2459

The Department of Energy (DOE) has adopted the Federal Energy Regulatory Commission's Final EIS No. 20180331, filed 01/18/2019 with the EPA. DOE was a cooperating agency on this project. Therefore, recirculation of the document is not necessary under Section 1506.3(c) of the CEQ regulations.

EIS No. 20190002, Final, HUD, VA, Ohio Creek Watershed Project, Review Period Ends: 03/11/2019, Contact: Kerry Johnson 804-822-4803

EIS No. 20190003, Final, FERC, LA, Port Arthur Liquefaction Project, Texas Connector Project, and Louisiana Connector Project, Review Period Ends: 03/11/2019, Contact: Office of External Affairs 866-208-3372

EIS No. 20190004, Final, NMFS, OR, Final Environmental Impact Statement to Analyze Impacts of NOAA's National Marine Fisheries Service Proposed Approval of Hatchery and Genetic Management Plans for spring Chinook salmon, steelhead, and rainbow trout in the Upper Willamette River Basin Pursuant to Section 7 and 4(d) of the Endangered Species Act, Review Period Ends: 03/11/2019, Contact: Lance Kruzic 541-957-3381

EIS No. 20190005, Draft, USACE, CA, Prado Basin Ecosystem Restoration and Water Conservation Study, Comment Period Ends: 03/27/2019, Contact: Megan Wong 213-448-4517

Amended Notices

EIS No. 20180244, Draft, USFS, CA, Plumas National Forest Over-Snow Vehicle (OSV) Use Designation, Comment Period Ends: 03/01/2019, Contact: Katherine Carpenter 530-283-7742, Revision to FR Notice Published 12/07/2019; Extending the Comment Period from 01/24/2019 to 03/01/2019.

EIS No. 20180260, Draft Supplement, USFS, ND, Northern Great Plains Management Plans Revision (Dakota Prairie Oil and Gas RFDS SEIS), Comment Period Ends: 02/20/2019, Contact: Leslie Ferguson 701-989-7308, Revision to FR Notice Published 12/14/2018; Extending Comment Period from 01/16/2019 to 02/20/2019.

EIS No. 20180289, Draft, USFS, AZ, Fossil Creek Wild and Scenic River Comprehensive River Management Plan, Comment Period Ends: 04/04/2019, Contact: Marcos Roybal 928-203-2915, Revision to FR Notice Published 11/30/2018; Extending the Comment Period from 02/28/2019 to 04/04/2019.

EIS No. 20180292, Draft, RUS, WI, Cardinal-Hickory Creek 345-kV Transmission Line Project, Comment Period Ends: 04/01/2019, Contact: Dennis Rankin 202-720-1953, Revision to FR Notice Published 12/07/2018; Extending the Comment Period from 02/05/2019 to 04/01/2019.

EIS No. 20180304, Draft, VA, CA, Draft Programmatic Environmental Impact Statement and National Historic Preservation Act Section 106 Consultation West Los Angeles Medical Center Campus Proposed Master Plan for Improvements and Reconfiguration, Comment Period Ends: 02/13/2019, Contact: Glenn Elliott 202-632-5879, Revision to FR Notice Published 12/14/2018; Extending the Comment Period from 01/26/2019 to 02/13/2019.

EIS No. 20180307, Draft, USFS, OR, Black Mountain Vegetation Management Project, Comment Period Ends: 02/28/2019, Contact: Elysia Retzlaff 541-416-6436, Revision to FR Notice Published 12/14/2018; Extending the Comment Period from 01/28/2019 to 02/28/2019.

EIS No. 20180316, Draft Supplement, USFS, SC, AP Loblolly Pine Removal and Restoration Project, Comment Period Ends: 02/25/2019, Contact: Victor Wyant 864-638-9568, Revision to FR Notice Published 12/21/2018; Extending the Comment Period from 02/04/2019 to 02/25/2019.

EIS No. 20180322, Draft, APHIS, PRO, Rangeland Grasshopper and Mormon Cricket Suppression Program, Comment Period Ends: 03/11/2019, Contact: Jim Warren 202-316-3216, Revision to FR Notice Published 12/28/2018; Extending the Comment Period from 02/11/2019 to 03/18/2019.

EIS No. 20180323, Draft Supplement, DOE, KY, Disposition of Depleted Uranium Oxide Conversion Product Generated from DOE's Inventory of Depleted Uranium Hexafluoride, Comment Period Ends: 03/04/2019, Contact: Jaffet Ferrer-Torres 202-586-0730, Revision to FR Notice Published 12/28/2018; Extending the Comment Period from 02/11/2019 to 03/04/2019.

Dated: February 5, 2019.
Robert Tomiak,
Director, Office of Federal Activities.

[FR Doc. 2019-01638 Filed 2-7-19; 8:45 am]

BILLING CODE 6560-50-P